DEPARTMENT OF JUSTICE

Bureau of Alcohol, Tobacco, Firearms and Explosives

[OMB Number 1140-0090]

Agency Information Collection Activities; Proposed eCollection eComments Requested; Extension Without Change of a Currently Approved Collection; National Firearms Act (NFA)—Special Occupational Taxes (SOT)—ATF Form 5630.7, ATF Form 5630.5R, and ATF Form 5630.5RC

AGENCY: Bureau of Alcohol, Tobacco, Firearms and Explosives, Department of Justice.

ACTION: 60-Day notice.

SUMMARY: The Department of Justice (DOJ), Bureau of Alcohol, Tobacco, Firearms and Explosives (ATF), will submit the following information collection request to the Office of Management and Budget (OMB) for review and approval in accordance with the Paperwork Reduction Act of 1995. The proposed information collection (IC) is also being published to obtain comments from the public and affected agencies.

DATES: Comments are encouraged and will be accepted for 60 days until July 20, 2020.

FOR FURTHER INFORMATION CONTACT: If you have additional comments, regarding the estimated public burden or associated response time, suggestions, or need a copy of the proposed information collection instrument with instructions, or additional information, please contact: James Chancey, National Firearms Act Division either by mail at 244 Needy Road, Martinsburg, WV 25405, by email at nfaombcomments@atf.gov, or by telephone at 304-616-4500.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Extension without change of a currently approved collection.

2. The Title of the Form/Collection: National Firearms Act (NFA)—Special Occupational Taxes (SOT).

3. The agency form number, if any, and the applicable component of the Department sponsoring the collection:

Form number (if applicable): ATF Form 5630.7, ATF Form 5630.5R, and ATF Form 5630.5RC.

Component: Bureau of Alcohol, Tobacco, Firearms and Explosives, U.S. Department of Justice.

4. Affected public who will be asked or required to respond, as well as a brief abstract:

Primary: Business or other for-profit.

Other (if applicable): None.

Abstract: This information collection requires that all new business owners who are subject to the Special Occupational Taxes (SOT) under the National Firearms Act (NFA) complete the Special Tax Registration and Return National Firearms Act (NFA)—ATF Form 5630.7. Taxpayers will also receive prepopulated printed copies of both the NFA Special Tax Renewal Registration and Renewal—ATF Form 5630.5R and the NFA Special Tax Location Registration Listing—ATF Form5630.5RC, so they can validate/correct their information and remit the required payment for the applicable tax year.

5. An estimate of the total number of respondents and the amount of time estimated for an average respondent to respond: An estimated 3,000 new taxpayers will take 15 minutes to complete ATF Form 5630.7 annually. However, it will take 17,000 taxpayers approximately 20 minutes (10 minutes per form) to complete ATF Form 5630.5R and ATF Form 5630.5RC every year. The combined total respondents for this information collection is 20,000, while the combined response time is 35 minutes.

6. An estimate of the total public burden (in hours) associated with the collection: The estimated annual public burden associated with ATF form 5630.7 is 755 hours. However, the total burden hours for ATF Form 5630.5R and ATF F 5630.5RC is 5,666 hours. Therefore, the estimated total public burden associated with this information collection is 6,416 hours, which is equal to 3,000 (# of respondents for ATF F 5630.7) * .25 (15 mins) + 17,000 (# of respondents for ATF F 5630.5R and ATF F 5630.5RC) * .3333 (20 mins).

7. An Explanation of the Change in Estimates: The adjustments associated with this collection include an increase in the total respondents and total burden hours by 13,650 and 4,328 respectively, since the last renewal in 2017. Due to more respondents, the public cost burden has also increased by $ 8,953.

If additional information is required contact: Melody Braswell, Department Clearance Officer, United States Department of Justice, Justice Management Division, Policy and Planning Staff, Two Constitution Square, 145 N Street NE, 3E.405A, Washington, DC 20530.

Dated: May 17, 2020.
Melody Braswell,
Department Clearance Officer for PRA, U.S. Department of Justice.

[FR Doc. 2020-10940 Filed 5-20-20; 8:45 am]

BILLING CODE 4410-02-P